DEPARTMENT OF COMMERCE

National Oceanic and Atmospheric Administration

RIN 0648-XD783

Peer Review Meeting To Review Sea Scallop Survey Methods

AGENCY: National Marine Fisheries Service (NMFS), National Oceanic and Atmospheric Administration (NOAA), Commerce.

ACTION: Notice of public meeting.

SUMMARY: NMFS and the Northeast Regional Science Center (NEFSC) will convene a Peer Review meeting for the purpose of a review of the survey methods for the Sea Scallop. The scope of the review is broad and includes the statistical design and data collection methods and procedures for several survey systems, including scallop dredges, video drop cameras, and HabCam. The objectives of this review will be to assess the relative merits of each sampling method, to identify complementary aspects among the survey methodologies, and to determine areas of future research and collaboration. The public is invited to attend the presentations and discussions.

DATES: The public meeting will be held from March 17 through March 19, 2015. The meeting will commence on March 17, 2015 at 9 a.m. Eastern Standard Time. See SUPPLEMENTARY INFORMATION for the daily meeting agenda.

ADDRESSES: The meeting will be held at the Waypoint Event Center at the Marriott Fairfield Inn and Suites, 185 MacArthur Drive, New Bedford, MA 02740.

FOR FURTHER INFORMATION CONTACT: James Weinberg, 508-495-2352; email: James.Weinberg@noaa.gov.

SUPPLEMENTARY INFORMATION: For further information please visit the Northeast Fisheries Science Center Web site at http://nefsc.noaa.gov/. For additional information about the peer review meeting of the Sea Scallop, please visit the NMFS NEFSC SAW Web site at http://www.nefsc.noaa.gov/nefsc/saw/.

Special Accommodations

This meeting is physically accessible to people with disabilities. Requests for sign language interpretation or other auxiliary aids should be directed to James Weinberg at the NEFSC, (508) 495-2352, at least 5 days prior to the meeting date.

Dated: February 18, 2015.
Tracey L. Thompson,
Acting Director, Office of Sustainable Fisheries, National Marine Fisheries Service.

[FR Doc. 2015-03671 Filed 2-23-15; 8:45 am]

BILLING CODE 3510-22-P